NATIONAL TRANSPORTATION SAFETY BOARD

Agenda; Sunshine Act Meeting

Time and Date: 9:30 a.m., Tuesday, May 13, 2008.

Place: NTSB Conference Center, 429 L'Enfant Plaza, SW., Washington, DC 20594.

Status: The one item is open to the public.

Matters to be Considered: 7853A Railroad Accident Report-Derailment of Norfolk Southern Railway Company Train 68QB 119 with Release of Hazardous Materials and Fire, New Brighton, Pennsylvania, October 20, 2006.

News Media Contact: Telephone: (202) 314-6100.

Individuals requesting specific accommodations should contact Antoin Downs at (202) 314-6557 by Friday, May 9, 2008.

The public may view the meeting via a live or archived Webcast by accessing a link under “News & Events” on the NTSB home page at http://www.ntsb.gov.

For More Information Contact: Vicky D'Onofrio, (202) 314-6410.

Dated: May 2, 2008.
Vicky D'Onofrio,
Federal Register Liaison Officer.

[FR Doc. E8-10120 Filed 5-8-08; 8:45 am]

BILLING CODE 7533-01-M